DEPARTMENT OF AGRICULTURE

Forest Service

Fishlake National Forest, Utah, Fishlake OHV Route Designation Project

Correction

In notice document 04-12780 beginning on page 31786 in the issue of Monday, June 7, 2004, make the following correction:

On page 31787, in the second column, under the heading “Proposed Action”, in the third and fourth lines, “http://www.fs.fed.us/r4/fishlake/projects/obv.shtml” should read “http://www.fs.fed.us/r4/fishlake/projects/ohv.shtml”.

[FR Doc. C4-12780 Filed 6-21-04; 8:45 am]

BILLING CODE 1505-01-D